DEPARTMENT OF TRANSPORTATION

Federal Motor Carrier Safety Administration

49 CFR Parts 385, 386, 390, and 395

[Docket No. FMCSA-2004-19608]

RIN 2126-AB26

Hours of Service of Drivers

AGENCY: Federal Motor Carrier Safety Administration (FMCSA), DOT.

ACTION: Notice of public listening session and on-line comment and question session.

SUMMARY: FMCSA announces that it will hold a public listening session to solicit comments and information on its notice of proposed rulemaking (NPRM) on hours-of-service (HOS) requirements, which it published in the Federal Register on December 29, 2010. Specifically, the Agency wants to know what factors, issues, and data it should consider as it analyzes responses to its NPRM on HOS requirements for property-carrying commercial motor vehicle (CMV) drivers. The session, which will be held in Arlington, Virginia, will allow interested persons to present comments, views, and relevant new research that FMCSA should consider in its final rule. All comments will be transcribed and placed in the rulemaking docket for FMCSA's consideration. FMCSA also announces that it will hold an on-line comment and question session on the same day, a transcript of which will also be placed in the rulemaking docket.

DATES: The listening session will be February 17, 2011, in Arlington, VA (near Washington, DC). The listening session will begin at 10 a.m. and end at 5 p.m. e.t., or earlier, if all participants wishing to express their views have done so. The on-line comment and question session will be held from Noon to Midnight e.t.

ADDRESSES: The February 17, 2011, meeting will be held at the Crowne Plaza Washington National Airport, 1480 Crystal Drive, Arlington, VA 22202. The hotel telephone number is 800-972-3159.

Internet Address for Alternative Media Broadcasts During and Immediately After the Listening Session. FMCSA will post specific information on how to participate via the Internet and telephone on the FMCSA Web site at http://www.fmcsa.dot.gov/rules-regulations/topics/hos/HOS-Listening-Sessions.aspx.

You may submit comments bearing the Federal Docket Management System (FDMS) Docket ID FMCSA-2004-19608 using any of the following methods.

• Federal eRulemaking Portal: Go to www.regulations.gov. Follow the on-line instructions for submitting comments.

• Mail: Docket Management Facility; U.S. Department of Transportation, 1200 New Jersey Avenue, SE., West Building Ground Floor, Room W12-140, Washington, DC 20590-0001.

• Hand Delivery or Courier: West Building Ground Floor, Room W12-140, 1200 New Jersey Avenue, SE., Washington, DC, between 9 a.m. and 5 p.m. e.t., Monday through Friday, except Federal Holidays.

• Fax: 1-202-493-2251.

Each submission must include the Agency name and the docket number for this notice. Note that DOT posts all comments received without change to http://www.regulations.gov, including any personal information included in a comment. Please see the Privacy Act heading below.

Docket: For access to the docket to read background documents or comments, go to http://www.regulations.gov at any time or visit Room W12-140 on the ground level of the West Building, 1200 New Jersey Avenue, SE., Washington, DC, between 9 a.m. and 5 p.m. e.t., Monday through Friday, except Federal holidays. The on-line Federal document management system is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System published in the Federal Register on January 17, 2008 (73 FR 3316), or you may visit http://edocket.access.gpo.gov/2008/pdf/E8-785.pdf.

FOR FURTHER INFORMATION CONTACT: For information concerning the HOS rules, contact Mr. Thomas Yager, Chief, FMCSA Driver and Carrier Operations Division, (202) 366-4325.

If you need sign language assistance to participate in this HOS listening session, contact Mr. David Miller, FMCSA Regulatory Development Division, (202) 366-5370 or at FMCSAregs@dot.gov, by Thursday, February 10, 2011, to allow us to arrange for such services. There is no guarantee that interpreter services requested on short notice can be provided.

SUPPLEMENTARY INFORMATION:

I. Background

On July 25, 2010, FMCSA submitted a draft HOS NPRM to OMB and on December 29, 2010, published the NPRM (75 FR 82170). The NPRM proposed to revise the regulations for hours of service for drivers of property-carrying commercial motor vehicles (CMVs).

II. Meeting Participation and Information FMCSA Seeks From the Public

The listening session is open to the public. Speakers' remarks will be limited to 5 minutes each. The public may submit material to the FMCSA staff at the session for inclusion in the public docket, FMCSA-2004-19608.

The Agency seeks data and answers relating to the following issues and questions. The comments sought below may be submitted in written form at the session and summarized verbally, if desired.

1. Driving Time. FMCSA is seeking additional studies or data that examine in greater detail the fatigue and safety differences between driving in the 10th and 11th hours. FMCSA is also interested in data that indicate when and how frequently the 11th hour is used. It seeks data on how much of the 11th hour is used when a driver goes beyond the 10th hour.

1a. For example, on days in which the driver both picks up and delivers a truckload, how often does the driver reach the 11th hour of driving?

1b. When the driver drives over 10 hours, is it by 5 minutes or by 55 minutes?

1c. What is the percentage of driving that takes place in each hour compared to total driving that occurs?

2. Duty Time/Driving Window. FMCSA is soliciting information on patterns of work for night drivers:

2a. For drivers who always drive at night, what is the typical length of their duty day?

2b. For drivers who sometimes drive at night, how frequently do they do that?

2c. FMCSA is seeking comments on whether drivers who drive at least 3 hours between midnight and 6 a.m. should have an hour less duty time available (12 hours rather than 13) to provide a longer period to obtain sleep.

3. Time-On-Task (TOT) Function. The Agency seeks comment on whether its approach to estimating its TOT function is reasonable given the lack of good exposure data. The Agency is interested in any suggestions for improving its approach for estimating TOT effects, especially information on where it might obtain better data on exposure and other driver characteristics that would enable it to improve its estimation of how or whether crash risk varies over successive hours of daily driving.

4. Cumulative Fatigue. The Agency seeks comment on whether its methodology for evaluating cumulative fatigue and its impact on driving performance is reasonable. The Agency also welcomes further information on the effects of cumulative fatigue, particularly in the form of scientific studies or data that would allow better evaluation of cumulative fatigue and its impact on workplace safety, driver safety performance, and productivity.

III. Alternative Media Broadcasts During and Immediately After the Listening Session on February 17, 2011

FMCSA will Web cast the listening session on the Internet and will have telephone lines available for those wishing to participate by telephone. FMCSA will also open a window on its Web site for commenters to send in comments and questions. That session will be open from Noon e.t. through Midnight e.t. During the separate Internet question and comment session, FMCSA representatives will respond to questions and provide clarification on the NPRM, subject to Administrative Procedure Act restrictions which prohibit Agency officials from engaging in policy discussions about open rulemaking proceedings. Specific information on how to participate via the Internet and the telephone access number will be on the FMCSA Web site at http://www.fmcsa.dot.gov/rules-regulations/topics/hos/HOS-Listening-Sessions.aspx.

FMCSA will docket the transcripts from the Internet comment and question session, as well as the webcast transcript and a separate transcription of the listening session that will be prepared by an official court reporter.

Issued on: January 26, 2011.
Anne S. Ferro,
Administrator.

[FR Doc. 2011-2084 Filed 1-28-11; 8:45 am]

BILLING CODE 4910-EX-P